DEPARTMENT OF COMMERCE

National Oceanic and Atmospheric Administration

Coastal Zone Management: Federal Consistency Appeal by Mobil Oil Exploration and Producing Southeast, Inc.; Consistency Appeal of Objections by the State of North Carolina

AGENCY: National Oceanic and Atmospheric Administration.

ACTION: Notice of decision.

On September 2, 1994, the Secretary of Commerce (Secretary) declined to override two objections by the State of North Carolina to the proposed drilling discharges (PDD) and overall Plan of Exploration (POE) by Mobil Oil Exploration & Producing Southeast, Inc. (Mobil) at a site about 38 miles offshore North Carolina. The Secretary made these decisions pursuant to section 307(c)(3) of the Coastal Zone Management Act (CZMA). Mobil challenged the Secretary's decisions in U.S. District Court for the District of Columbia claiming they were made in violation of the Administrative Procedure Act. On March 11, 1996, the court ordered a stay of the litigation and remanded the matter to the Secretary for a determination whether the administrative record should be reopened to receive two recently produced studies, one on the impacts of Mobil's propsoed actions on benthic resources and one on their impacts on socio-economic resources. Mobil, et al. v. Brown, et al., 920 F. Supp. 1 (D.D.C. 1996).

The Secretary's decision was held in abeyance pending settlement discussions and the outcome of related litigation.

On December 8, 1999, the Secretary issued a decision declining to reopen the record to admit the two studies at issue in Mobil v. Brown, for two reasons. First, both this Department and parties to appeals under the CZMA have an interest in the finality of Secretarial decisions and the administrative process. Once the administrative record is closed, a decision should be made, and new materials should not be submitted or considered without a showing of good cause. No good cause was shown in this case. Second, the two studies do not address all of the information gaps identified by the Secretary's 1994 decisions. The Secretary's decision has been submitted to the District Court in response to the court's order in Mobil v. Brown. Copies of the decision may be obtained from:

Karl Gleaves, Assistant General Counsel for Ocean Services, National Oceanic and Atmospheric Administration (NOAA), U.S. Department of Commerce, 1305 East-West Highway, Room 6111, Silver Spring, MD 20910, (301) 713-2967.

(Federal Domestic Assistance Catalog No. 11.419 Coastal Zone Management Program Assistance)
Dated: May 26, 2000.
James A. Dorskind,
General Counsel.

[FR Doc. 00-13971 Filed 6-2-00; 8:45 am]

BILLING CODE 3510-08-M